ENVIRONMENTAL PROTECTION AGENCY

[ER-FRL-9024-5]

Environmental Impact Statements; Notice of Availability

Responsible Agency: Office of Federal Activities, General Information (202) 564-7146 or http://www2.epa.gov/nepa.

Weekly receipt of Environmental Impact Statements

Filed 12/07/2015 Through 12/11/2015

Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20150350, Draft, NMFS, FL, Regional Management of Recreational Red Snapper Amendment 39 to the Fishery Management Plan for the Reef Fish Resources in the Gulf of Mexico, Comment Period Ends: 02/01/2016, Contact: Roy E. Crabtree 727-824-5301.

EIS No. 20150351, Final, USFWS, TX, Southern Edwards Plateau Habitat Conservation Plan, Review Period Ends: 01/19/2016, Contact: Adam Zerrenner 512-490-0057.

EIS No. 20150352, Final, USFS, MT, Montanore Project, Review Period Ends: 01/19/2016, Contact: Lynn Hagarty 406-283-7642.

EIS No. 20150353, Draft, FRA, MD, Draft Section 4(f) Evaluation for the Baltimore & Potomac Tunnel Project, Comment Period Ends: 02/05/2016, Contact: Michelle W. Fishburne 202-293-0398.

EIS No. 20150354, Final, BR, CA, Upper Truckee River and Marsh Restoration Project, Review Period Ends: 01/19/2016, Contact: Rosemary Stefani 916-978-5045.

EIS No. 20150355, Final, USN, OR, Military Readiness Activities at Naval Weapons Systems Training Facility Boardman, OR, Review Period Ends: 01/19/2016, Contact: Amy Burt 360-396-0403.

EIS No. 20150356, Final, APHIS, PRO, Carcass Management During a Mass Animal Health Emergency, Review Period Ends: 01/19/2016, Contact: Lori P. Miller 301-851-3512.

Amended Notices

EIS No. 20150357, Adoption, NOAA, OR, ADOPTION—Southern Flow Corridor Project, Contact: Patricia A. Montanio 301-427-8600.

The U.S. Department of Commerce's National Oceanic and Atmospheric Administration (NOAA) is adopting the Federal Emergency Management Agency's FEIS #20150296, filed 10/22/2015 with EPA. NOAA was a cooperating agency for the above project, therefore recirculation of the document is not necessary under Section 1506.3(c) of the Council on Environmental Quality Regulations.

Dated: December 15, 2015.
Karin Leff,
Acting Director, NEPA Compliance Division, Office of Federal Activities.

[FR Doc. 2015-31903 Filed 12-17-15; 8:45 am]

BILLING CODE 6560-50-P